FEDERAL COMMUNICATIONS COMMISSION

Notice of Public Information Collection(s) Being Submitted for Review to the Office of Management and Budget

April 13, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 25, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via Internet at Jasmeet_K._Seehra@omb.eop.gov and to Judith-B. Herman@fcc.gov, Federal Communications Commission, Room 1-B441, 445 12th Street, SW., DC 20554 or an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0800.

Title: FCC Application for Assignment of Authorization or Transfer of Control: Wireless Telecommunications Bureau and Public Safety and Homeland Security Bureau.

Form No.: FCC Form 603.

Type of Review: Revision of a currently approved collection.

Respondents: Individuals or households; business or other for-profit, not-for-profit institutions, and state, local or tribal government.

Number of Respondents: 32,551 respondents; 32,551 responses.

Estimated Time per Response: .50-1.75 hours.

Frequency of Response: Recordkeeping requirement and on occasion reporting requirement.

Obligation to Respond: Mandatory.

Total Annual Burden: 36,621 hours.

Total Annual Cost: $3,092,295.

Privacy Act Impact Assessment: Yes.

Nature and Extent of Confidentiality: This information collection contains personally identifiable information (PII). The FCC has a system of records (SORN), FCC/WTB-1, “Wireless Services Licensing Record,” to cover the collection, maintenance, use(s), and destruction of this PII, which respondents may provide to the FCC as part of the information collection requirement(s). This SORN was published in the Federal Register on April 5, 2006 (71 FR 17234, 17269).

Needs and Uses: The Commission will submit this information collection to OMB as a revision during this comment period to obtain the full three-year clearance from them. The Commission is reporting a program change increase for this information collection because the bureau has added a new page 5 to Schedule A of FCC Form 603. The number of respondents has increased that will have to complete that part of the form if they are submitting information for Gross Revenue for Attributable Material Relationship (AMR Entity). The bureau also updated the phone numbers, email addresses and other pertinent information on the form.

The Commission uses the information in FCC Form 603 to determine whether the applicant is legally, technically and financially qualified to obtain a license. Without such information, the Commission cannot determine whether to issue the licenses to the applicants that provide telecommunications services to the public, and therefore, to fulfill its statutory responsibilities in accordance with the Communications Act of 1934, as amended. Information provided on this form will also be used to update the database and to provide for proper use of the frequency spectrum.

OMB Control Number: 3060-1058.

Title: FCC Application or Notification for Spectrum Leasing Arrangement or Private Commons Agreement: Wireless Telecommunications Bureau, Public Safety and Homeland Security Bureau.

Form No.: FCC Form 608.

Type of Review: Revision of a currently approved collection.

Respondents: Individuals or households; business or other for-profit, not-for-profit institutions, and state, local or tribal government.

Number of Respondents: 1,593 respondents; 1,593 responses.

Estimated Time per Response: .50-1.75 hours.

Frequency of Response: Recordkeeping requirement and on occasion reporting requirement.

Obligation to Respond: Required to obtain or retain benefits.

Total Annual Burden: 7,965 hours.

Total Annual Cost: $1,309,446.

Privacy Act Impact Assessment: N/A.

Nature and Extent of Confidentiality: Respondents may request materials or information submitted to the Commission be withheld from public inspection under 47 CFR Section 0.459 of the Commission's rules.

Needs and Uses: The Commission will submit this information collection to OMB as a revision during this comment period to obtain the full three-year clearance from them. The Commission is reporting a program change increase for this information collection because the bureau has added a new page 5 to Schedule A of FCC Form 608. The number of respondents has increased that will have to complete that part of the form if they are submitting information for Gross Revenue for Attributable Material Relationship (AMR Entity). The bureau also updated the phone numbers, email addresses and other pertinent information on the form.

The required notifications and applications will provide the Commission with useful information about spectrum usage and help to ensure that licensees and lessees are complying with Commission interference and non-interference related policies and rules. Similar information and verification requirements have been used in the past for licensees operating under authorizations, and such requirements will serve to minimize interference, verify that lessees are legally and technically qualified to hold licenses, and ensure compliance with Commission rules.

Federal Communications Commission.
Marlene H. Dortch,
Secretary.

[FR Doc. E7-7932 Filed 4-24-07; 8:45 am]

BILLING CODE 6712-01-P